DEPARTMENT OF COMMERCE

National Oceanic and Atmospheric Administration

[Docket No. 030602141-5135-17]

Financial Assistance to Establish a New Cooperative Science Center Under NOAA's Educational Partnership Program (EPP) With Minority Serving Institutions for Scientific Environmental Technology

AGENCY: Office of Oceanic and Atmospheric Research (OAR), National Oceanic and Atmospheric Administration (NOAA), Department of Commerce.

ACTION: Notice of criteria for establishing a new Cooperative Science Center in Scientific Environmental Technology at a Minority Serving Institution; and, notice of availability of funds and solicitation for proposals for these funds.

SUMMARY: The purpose of this document is to advise the public that NOAA's Educational Partnership Program is soliciting proposals to establish a new Cooperative Science Center at an accredited postsecondary minority serving institution (MSI). This Center will be established as a partnership between the institution and NOAA, with the goal of expanding the institution's training and research capabilities and supporting the development of programs compatible with NOAA's mission. The Cooperative Science Center will be established in support of NOAA core science areas and will enhance NOAA's ability to conduct its mission with enhanced scientific environmental technologies.

DATES: Applications must be received by NOAA Educational Partnership Program (EPP) no later than 2 p.m. (eastern time), local time 60 days after the publication of this notice.

ADDRESSES: Applications submitted in response to this announcement are strongly encouraged to be submitted through the Grants.gov Web site. Electronic access to the full funding announcement for this program is available via the Grants.gov Web site: http://www.grants.gov. The announcement will also be available at the NOAA Web site http://www.ofa.noaa.gov/%7Eamd/SOLINDEX.HTML or by contacting the program official identified below. Paper applications (a signed original and two copies) should be submitted to the Educational Partnership Program at the following address: NOAA/OAR/EPP, 1315 East West Highway, Room 10600, Silver Spring, Maryland 20910. No facsimile applications will be accepted. Institutions may submit Letters of Intent to NOAA/EPP that would aid in planning the review processes.

Letters of Intent may be submitted via e-mail to Jacqueline.J.Rousseau@noaa.gov. Information should include a general description of the Center proposal and participating institutions.

FOR FURTHER INFORMATION CONTACT: Jacqueline Rousseau, Program Director at (301) 713-9437 ext. 124 or Jacqueline.J.Rousseau@noaa.gov.

SUPPLEMENTARY INFORMATION: Summary Description: NOAA is commitment to the recruitment and retention of employees from underrepresented communities, trained in NOAA-related sciences, to conduct the ongoing mission of the agency. Toward that end, the agency established a program aimed at partnering with Minority Serving Institutions (MSIs) that train and graduate students in the areas of atmospheric, oceanic and environmental sciences, and remote sensing. Since approximately 40% of minority students receive their undergraduate degrees at MSIs, direct collaboration with MSIs is, therefore, an effective way to increase the number of minority students trained and graduating with degrees in NOAA-related fields who may become engaged in research and pursue careers compatible with the agency's mission. Statistics from the National Science Foundation (NSF) Science and Engineering Indicators 2004 Report illustrate that the number of minority students receiving doctoral and master's degrees in science and engineering for selected years from 1994-2003, continues to be lower than the national average. The NSF report states, for example, that in 2004 (the most recent data available) 26,413 doctoral degrees were granted in science and engineering (which includes earth, atmospheric, and ocean sciences) to U.S. citizens. Of these graduates, 1708 were African American, 1270 were Hispanic, 133 were American Indian/Alaska Native and 1417 were Asian/Pacific Islander. The 2004 NSF report states that a total of 474 PhD degrees were granted in earth, atmospheric, and ocean sciences. Of those earth, atmospheric, and ocean sciences graduates, 15 were granted to African Americans, 13 to Hispanics, 2 to American Indians and Alaskan Natives, and 10 to Asian/Pacific Islanders. Statistics for master's degrees granted to these four groups are also disproportionately low. With such a limited pool of potential minority employees trained in NOAA-related sciences, it is important that NOAA seek new ways to make students aware of the mission of the agency and to support activities that increase opportunities for students trained in NOAA-related sciences.

The Center will support activities that strengthen the research capability at the selected MSI with accredited programs and degrees in physical sciences, including applied physics, applied mathematics, computer science applications, engineering atmospheric, oceanic, and environmental and related sciences. An essential goal of this program is to seek ways to improve opportunities for, and retention of, students and faculty from underrepresented groups in NOAA-related sciences, at MSIs, with the eventual goal of increasing the number of students graduating with degrees that will enhance the technologies supportive of, and compatible with, atmospheric, oceanic, and environmental sciences, remote sensing and related technologies. The overall Educational Partnership Program (EPP) program strategies include: enhanced collaborative research, hands-on opportunities and research experiences for students and faculty with NOAA research facilities; strengthening the infrastructure at minority serving institutions that serve underrepresented groups; and, supporting staff exchanges between NOAA and MSIs.

A Distinguished Scientist position must be created at the Center to develop significant research projects for the Center with other EPP Centers as well as with other MSIs and relevant agencies. Staff and faculty exchanges will be an integral part of this program and opportunities will be made available to participate in collaborative research or other agreed upon activities. NOAA expects the Center to develop mechanisms and approaches to increase opportunities to make courses and seminars offered at the Center available to students at other MSIs. The Center will also be required to use a minimum of thirty percent (30%) of the award for student support, which includes, but is not limited to, scholarships, fellowships, travel expenses to professional meetings, and for conducting site research.

While the Center will be established at an MSI, consortia with non-minority serving institutions partners will not be restricted. Private sector partnerships are also encouraged.

Proposals for the Scientific Environmental Technology (SET) Cooperative Science Center should address the ability to support education and research in physical and social sciences at a MSI. The physical sciences include but are not limited to, meteorological and oceanographic sensor and satellite telecommunications technologies, remote sensing, and observational and information technology systems, applied mathematics, applied physics and computer applications and engineering. For the purposes of this program Scientific Environmental Technology includes an emphasis on the following: Meteorological sensors (wind, visibility, humidity, etc.), oceanographic sensors (wave, water quality, microwave altimeters, beacons, navigational, etc.), airborne and ship based observing systems, chemical observations, observational and information technology systems (satellite telecommunications, telecommunications, data collection packages, modems, drivers, protocols, etc.). Scientific Environmental Technology also includes the analysis of global observing systems, including simulations to determine the role of each observing subsystem, determination of optimal mixes of observing systems, and of the costs associated with various observing systems.

Graduates must be able to carry out a variety of tasks including: Understanding meteorological and oceanographic needs; identifying potential sensor, observational, and information technologies; developing sensor; observational, and information technology systems; testing and evaluating meteorological and/or oceanographic systems.

NOAA anticipates that as the EPP program succeeds and more minority students graduate in NOAA-related sciences, the agency will have a larger pool of candidates from which to hire. An increase in the number of students trained and graduating in science and engineering will be beneficial to the nation as a whole, because NOAA relies on its partnerships with State, local and tribal governments as well as with community interest groups to accomplish its mission.

Electronic Access

Applicants can access, download and submit electronic grant applications, including the full funding announcement, for NOAA programs at the Grants.gov Web site: http://www.grants.gov. The announcement will also be available at the NOAA Web site http://www.ofa.noaa.gov/%7Eamd/SOLINDEX.HTML or by contacting the program officials identified above.

The closing date will be the same as for the paper submissions noted in this announcement. NOAA strongly recommends that you do not wait until the application deadline date to begin the application process through Grants.gov.

If Internet access is unavailable, hard copies of proposals will also be accepted—a signed original and two copies at time of submission. This includes color or high-resolution graphics, unusually sized materials, or otherwise unusual materials submitted as part of the proposal. For color graphics, submit either color originals or color copies. Facsimile transmissions and electronic mail submission of full proposals will not be accepted.

Funding Availability: This solicitation announces that funding up to $1.25 million will be available in FY 2005, with a maximum of $10 million over a five (5) year period, subject to appropriations. Applications in excess of $1.25 million in the first year will not be considered. It is anticipated that the funding instrument will be a cooperative agreement since NOAA will be substantially involved in developing research priorities, conducting cooperative activities with recipients, exchanging staff and providing internship opportunities for students at MSIs. Only one award will be made to establish a Scientific Environmental Cooperative Science Center.

Authorities: 15 U.S.C. 1540, 49 U.S.C. 44720, 33 U.S.C. 883d, 33 U.S.C. 1442, 16 U.S.C. 1854(e), 16 U.S.C. 661, 16 U.S.C. 753(a), 16 U.S.C. 1451 et seq., 16 U.S.C. 1431, 33 U.S.C. 883a and Executive Orders 12876, 12900, 13021, 13336, and 13339.

Catalog of Federal Domestic Assistance: 11.481—Educational Partnership Program with Minority Serving Institutions.

Eligibility: For the purposes of this program, Historically Black Colleges and Universities, Hispanic Serving Institutions, Tribal Colleges and Universities, and Alaska Native and Native Hawaiian Serving Institutions, as identified on the 2004 United States Department of Education, Accredited Postsecondary Minority Institution list at http://www.ed.gov/about/offices/list/ocr/minorityinst2004.pdf, are eligible to apply.

Cost Sharing Requirements: None.

Intergovernmental Review: Applications under this program are not subject to Executive Order 12372, “Intergovernmental Review of Federal Programs.”

Evaluation and Selection Procedures

Once an application is received by NOAA, an initial administrative review is conducted to determine compliance with requirements and completeness of the application. All applications that meet the requirements and are complete will be evaluated and scored individually in accordance with the assigned weights of the evaluation criteria by an independent peer review panel. Both Federal and non-Federal experts in the field may be used in the process. Each peer panel reviewer will score proposals on a scale of five to one, where scores represent respectively: Excellent (5), Very Good (4), Good (3), Fair (2), Poor (1). The peer review panel will be comprised of 5 to 7 individuals, with each individual having expertise in a separate area, so that the panel, as a whole, covers a range of scientific expertise.

The individual peer panelist scores shall be averaged for each application and presented to the Program Officer. No consensus advice will be given by the independent peer the review panel.

The Program Officer will neither vote nor score proposals as part of the independent peer panel nor participate in discussion of the merits of the proposal. Those proposals receiving an average panel score of “Good”, “Fair”, or “Poor” will not be given further consideration, and applicants will be notified of non-selection.

For the proposals receiving an average score of either “Excellent” or “Very Good, the Program Officer will (a) rank the proposals by average panel ratings, and/or by applying the project selection factors listed below; (b) determine the total duration of funding for the selected proposal; and (c) determine the amount of funds available for the selected proposal subject to the availability of fiscal year funds. A recommendation for funding is then forwarded to the selecting official, the Deputy Assistant Administrator (DAA) of OAR, for the final funding decision. In making the final selection, the DAA will award in rank order unless the selected proposal is justified to be selected out of rank order based on the selection factors listed below.

Investigators may be asked to modify objectives, work plans or budgets, and provide supplemental information required by the agency prior to the award. When a decision has been made (whether an award or declination), verbatim anonymous copies of reviews and summaries of review panel deliberations, if any, will be made available to the applicant upon applicant request. Declined applications will be held in the NOAA EPP for the required 3 years in accordance with the current retention requirements, and then destroyed.

Evaluation Criteria: Proposals will be evaluated on the basis of the following evaluation criteria at the indicated weights:

(1) Importance and/or relevance and applicability of proposed project to the program goals: This ascertains whether there is intrinsic value in the proposed work and/or relevance to NOAA, Federal, regional, State, or local activities. (25 percent).

(2) Technical/scientific merit: This assesses whether the approach is technically sound and/or innovative, if the methods are appropriate, and whether there are clear project goals and objectives. (25 percent).

(3) Overall qualifications of applicants: This ascertains whether the applicant possesses the necessary education, experience, training, facilities, and administrative resources to accomplish the project. (10 percent).

(4) Project costs: The Budget is evaluated to determine if it is realistic and commensurate with the project needs and time-frame. (10 percent).

(5) Outreach and education: NOAA assesses whether this project provides a focused and effective education and outreach strategy regarding NOAA's mission to protect the Nation's natural resources. (30 percent).

Selection Factors: The merit review ratings shall provide a rank order to the Selecting Official for final funding recommendation. A program officer may first make a recommendation to the Selecting Official applying the selection factors below. The Selecting Official shall award in the rank order unless the proposal is justified to be selected out of rank order based upon one or more of the following factors:

1. Availability of funding.

2. Balance/distribution of funds:

a. Geographically

b. By type of institutions

c. By type of partners

d. By research areas

e. By project types

3. Whether this project duplicates other projects funded or considered for funding by NOAA or other Federal agencies.

4. Program priorities and policy factors set forth in sections I.A. and B. and IV.B. of the Full Funding Opportunity.

5. Applicant's prior award performance.

6. Partnerships and/or Participation of targeted groups

7. Adequacy of information necessary for NOAA to make a NEPA determination and draft necessary documentation before recommendations for funding are made to the Grants Officer.

National Environmental Policy Act (NEPA)

NOAA must analyze the potential environmental impacts, as required by the National Environmental Policy Act (NEPA), for applicant projects or proposals which are seeking NOAA Federal funding opportunities. Detailed information on NOAA compliance with NEPA can be found at the following NOAA NEPA Web site: http://www.nepa.noaa.gov/, including our NOAA Administrative Order 216-6 for NEPA, http://www.nepa.noaa.gov/NAO216-6-TOC.pdf, and the Council on Environmental Quality implementation regulations, http://ceq.eh.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

Pre-Award Notification Requirements for Grants and Cooperative Agreements

The Department of Commerce Pre-Award Notification Requirements for Grants and Cooperative Agreements contained in the Federal Register notice of December 30, 2004 (69 FR 78389) are applicable to this solicitation.

Limitation of Liability

In no event will NOAA or the Department of Commerce be responsible for proposal preparation costs if these programs fail to receive funding or are cancelled because of other agency priorities. Publication of this announcement does not oblige NOAA to award any specific project or to obligate any available funds. Recipients and sub-recipients are subject to all Federal laws and agency policies, regulations and procedures applicable to Federal financial assistance awards.

Paperwork Reduction Act

This notification involves collection-of-information requirements subject to the Paperwork Reduction Act. The use of Standard Forms 424, 424A, 424B, and SF-LLL and CD-346 has been approved by the Office of Management and Budget (OMB) under control numbers 0348-0043, 0348-0044, 0348-0040 and 0348-0046 and 0605-0001. Notwithstanding any other provision of law, no person is required to respond to, nor shall any person be subject to a penalty for failure to comply with, a collection of information subject to the requirements of the PRA unless that collection of information displays a currently valid OMB control number.

Executive Order 12866

It has been determined that this notice is not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comments are not required pursuant to 5 U.S.C. 553 or any other law, the analytical requirements of the Regulatory Flexibility Act (5 U.S.C. 601 et seq.) are inapplicable. Therefore, a regulatory flexibility analysis has not been requested, and none has been prepared. It has been determined that this notice does not contain policies with federalism implications as that term is defined in Executive Order 13132.

Dated: May 24, 2005.
Louisa Koch,
Deputy Assistant Administrator for NOAA Research.

[FR Doc. 05-10705 Filed 5-27-05; 8:45 am]

BILLING CODE 3510-KD-P